DEPARTMENT OF HEALTH AND HUMAN SERVICES

Health Resources and Services Administration

“Low Income Levels” Used for Various Health Professions and Nursing Programs Included in Titles III, VII, and VIII of the Public Health Service Act

AGENCY: Health Resources and Services Administration, HHS.

ACTION: Notice.

SUMMARY: The Health Resources and Services Administration (HRSA) is updating income levels used to identify a “low income family” for the purpose of determining eligibility for programs that provide health professions and nursing training for individuals from disadvantaged backgrounds. These various programs are included in Titles III, VII, and VIII of the Public Health Service Act.

The Department periodically publishes in the Federal Register low-income levels used to determine eligibility for grants and cooperative agreements to institutions providing training for (1) disadvantaged individuals, (2) individuals from disadvantaged backgrounds, or (3) individuals from low-income families.

SUPPLEMENTARY INFORMATION: The various health professions and nursing grant and cooperative agreement programs that use the low-income levels to determine whether an individual is from an economically disadvantaged background in making eligibility and funding determinations generally make awards to: accredited schools of medicine, osteopathic medicine, public health, dentistry, veterinary medicine, optometry, pharmacy, allied health podiatric medicine, nursing, chiropractic, public or private nonprofit schools which offer graduate programs in behavioral health and mental health practice, and other public or private nonprofit health or education entities to assist the disadvantaged to enter and graduate from health professions and nursing schools. Some programs provide for the repayment of health professions or nursing education loans for disadvantaged students.

The Secretary defines a “low-income family/household” for programs included in Titles III, VII, and VIII of the Public Health Service Act as having an annual income that does not exceed 200 percent of the Department's poverty guidelines. A family is a group of two or more individuals related by birth, marriage, or adoption who live together. On June 26, 2013, in U.S. v. Windsor, 133 S. Ct. 2675 (2013), the Supreme Court held that section 3 of the Defense of Marriage Act, which prohibited federal recognition of same-sex spouses and same-sex marriages, was unconstitutional. In light of this decision, please note that in determining eligibility for these programs, same-sex marriages and same-sex spouses will be recognized on equal terms with opposite-sex spouses and opposite-sex marriages, regardless of where the couple resides. This approach is consistent with a post-Windsor policy of treating same-sex marriages on the same terms as opposite sex marriages to the greatest extent reasonably possible. Thus, a “family or household” includes same-sex spouses that are legally married in a jurisdiction that recognizes same-sex marriage regardless of whether the same-sex spouses live in a jurisdiction that recognizes same-sex marriage or a jurisdiction that does not recognize same-sex marriage and the family members that result from such same sex-marriage.

A “household” may be only one person. Most HRSA programs use the income of the student's parents to compute low income status. Other programs, depending upon the legislative intent of the program, the programmatic purpose related to income level, as well as the age and circumstances of the participant, will apply these low income standards to the individual student to determine eligibility, as long as he or she is not listed as a dependent on his or her parents' tax form. Each program will announce the rationale and choice of methodology for determining low income levels in their program guidance. The Department's poverty guidelines are based on poverty thresholds published by the U.S. Bureau of the Census, adjusted annually for changes in the Consumer Price Index.

The Secretary annually adjusts the low-income levels based on the Department's poverty guidelines and makes them available to persons responsible for administering the applicable programs. The income figures below have been updated to reflect increases in the Consumer Price Index through December 31, 2013.

2014 Poverty Guidelines for the 48 Contiguous States and the District of Columbia
Size of parents' family * | Income level **
1 | $23,340
2 | 31,460
3 | 39,580
4 | 47,700
5 | 55,820
6 | 63,940
7 | 72,060
8 | 80,180
For families with more than 8 persons, add $8,120 for each additional person.

2014 Poverty Guidelines for Alaska
Size of parents' family * | Income level **
1 | $29,160
2 | 39,320
3 | 49,480
4 | 59,640
5 | 69,800
6 | 79,960
7 | 90,120
8 | 100,280
For families with more than 8 persons, add $10,160 for each additional person.

2013 Poverty Guidelines for Hawaii
Size of parents' family * | Income level **
1 | $26,840
2 | 36,180
3 | 45,520
4 | 54,860
5 | 64,200
6 | 73,540
7 | 82,880
8 | 92,220
For families with more than 8 persons, add $9,340 for each additional person.
* Includes only dependents listed on federal income tax forms. Some programs will use the student's family rather than his or her parents' family.
** Adjusted gross income for calendar year 2013.

Separate poverty guidelines figures for Alaska and Hawaii reflect Office of Economic Opportunity administrative practice beginning in the 1966-1970 period. (Note that the Census Bureau poverty thresholds—the version of the poverty measure used for statistical purposes—have never had separate figures for Alaska and Hawaii.) The poverty guidelines are not defined for Puerto Rico or other outlying jurisdictions. Puerto Rico or other outlying jurisdictions shall use income guidelines for the 48 contiguous states and the District of Columbia.

Dated: April 16, 2014.
Mary K. Wakefield,
Administrator.

[FR Doc. 2014-09131 Filed 4-21-14; 8:45 am]

BILLING CODE 4165-15-P